FEDERAL COMMUNICATIONS COMMISSION

Notice of Public Information Collection(s) Being Reviewed by the Federal Communications Commission for Extension Under Delegated Authority, Comments Requested

June 30, 2009.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before September 14, 2009. If you anticipate that you will be submitting comments but find it difficult to do so within the period of time allowed by this notice, you should advise the contact listed below as soon as possible.

ADDRESSES: Submit your comments by e-mail to PRA@fcc.gov. Include in the e-mail the OMB control number of the collection. If you are unable to submit your comments by e-mail, contact the person listed below to make alternate arrangements.

FOR FURTHER INFORMATION CONTACT: For additional information about the information collection(s) or to obtain a copy of the collection, send an e-mail to PRA@fcc.gov and include the collection's OMB control number as shown in the Supplementary Information section below, or call Leslie F. Smith at (202) 418-0217.

SUPPLEMENTARY INFORMATION: OMB Control Number: 3060-0392.

Title: 47 CFR 1 Subpart J—Pole Attachment Complaint Procedures.

Form Number: Not applicable.

Type of Review: Extension of currently approved collection.

Respondents: Businesses or other for-profit, and State, Local or Tribal Government.

Number of Respondents and Responses: 1,772 respondents; 1,772 responses.

Estimated Time per Response: 0.5 to 100 hours.

Frequency of Response: On occasion reporting requirement; Third party disclosure.

Obligation To Respond: Required to obtain or retain benefits (47 U.S.C. 224).

Total Annual Burden: 2,629 hours.

Total Annual Cost: $450,000.

Privacy Act Impact Assessment: No privacy impacts.

Nature and Extent of Confidentiality: There is no need for confidentiality. However, respondents may request materials or information submitted to the Commission be withheld from public inspection under 47 CFR Section 0.459 of the FCC's rules.

Needs and Uses: The rules and regulations contained in 47 CFR part 1 subpart J provide complaint and enforcement procedures to ensure that telecommunications carriers and cable system operators have nondiscriminatory access to utility poles, ducts, conduits, and rights-of-way on rates, terms and conditions that are just and reasonable. The information collected under these rules will be used by FCC to hear and resolve petitions for stay and complaints as mandated by Section 224 of the Communications Act of 1934, as amended. Information filed is used to determine the merits of the petitions and complaints. Additionally, State certifications are used to make public notice of the States' authority to regulate rates, terms and conditions for pole attachments, and to determine the scope of the FCC's jurisdiction.

Federal Communications Commission.
Marlene H. Dortch,
Secretary.

[FR Doc. E9-16234 Filed 7-13-09; 8:45 am]

BILLING CODE 6712-01-P